FEDERAL COMMUNICATIONS COMMISSION

47 CFR Part 54

[WC Docket Nos. 10-90, 14-58; FCC 17-12]

Connect America Fund, ETC Annual Reports and Certifications

AGENCY: Federal Communications Commission.

ACTION: Final rule.

SUMMARY: In this document, the Federal Communications Commission (Commission) amends its rules to require 2 terabytes of monthly usage for certain Connect America Fund Phase II auction performance tiers, taking another step towards implementing the Connect America Fund Phase II auction in which service providers will compete to receive support of up to $1.98 billion to offer voice and broadband service in unserved high-cost areas.

DATES: The amendment to § 54.309(a)(2)(iii) & (iv) of the Commission's rules is effective June 20, 2018.

FOR FURTHER INFORMATION CONTACT: Alexander Minard, Wireline Competition Bureau, (202) 418-7400 or TTY: (202) 418-0484.

SUPPLEMENTARY INFORMATION: The Commission published a document in the Federal Register, 82 FR 14466, March 21, 2017 summarizing a Report and Order and Order on Reconsideration. Although the Report and Order and Order on Reconsideration specified a requirement of 2 terabytes of monthly usage on certain service tiers, the Report and Order and Order on Reconsideration inadvertently failed to include a rules appendix reflecting that change in the rules. The Commission issued an Erratum correcting that error, DA 18-293, released on March 26, 2018. This document includes the amendments that were inadvertently left out of the document published March 21, 2017.

List of Subjects in 47 CFR Part 54

Communications common carriers, Health facilities, Infants and children, Internet, Libraries, Reporting and recordkeeping requirements, Schools, Telecommunications, Telephone.

Federal Communications Commission.
Marlene Dortch,
Secretary.

Final Rules

For the reasons discussed in the preamble, the Federal Communications Commission amends 47 CFR part 54 as follows:

PART 54—UNIVERSAL SERVICE

1. The authority citation for part 54 continues to read as follows:

Authority: 47 U.S.C. 151, 154(i), 155, 201, 205, 214, 219, 220, 254, 303(r), 403, and 1302 unless otherwise noted.

2. Amend § 54.309 by revising paragraphs (a)(2)(iii) and (iv) to read as follows:

§ 54.309 Connect America Fund Phase II Public Interest Obligations.

(a) * * *

(2) * * *

(iii) Winning bidders meeting the above-baseline performance tier standards are required to offer broadband service at actual speeds of at least 100 Mbps downstream and 20 Mbps upstream and offer at least 2 terabytes of monthly usage.

(iv) Winning bidders meeting the Gigabit performance tier standards are required to offer broadband service at actual speeds of at least 1 Gigabit per second downstream and 500 Mbps upstream and offer at least 2 terabytes of monthly usage.

* * * * *

[FR Doc. 2018-10765 Filed 5-18-18; 8:45 am]

BILLING CODE 6712-01-P